ENVIRONMENTAL PROTECTION AGENCY

40 CFR Part 52

[EPA-R09-OAR-2015-0619; FRL-9936-66-Region 9]

Revisions to the California State Implementation Plan, Antelope Valley Air Quality Management District, Feather River Air Quality Management District and Santa Barbara County Air Pollution Control District

AGENCY: Environmental Protection Agency (EPA).

ACTION: Proposed rule.

SUMMARY: The Environmental Protection Agency (EPA) is proposing to approve revisions to the Antelope Valley Air Quality Management District (AVAQMD), Feather River Air Quality Management District (FRAQMD), and Santa Barbara County Air Pollution Control District (SBCAPCD) portions of the California State Implementation Plan (SIP). These revisions concern volatile organic compound (VOC) emissions from architectural coatings. We are proposing to approve local rules to regulate these emission sources under the Clean Air Act (CAA or the Act). Simultaneously, the EPA is proposing to delete two related local rules from the SIP from Sutter County Air Pollution Control District (SCAPCD) and Yuba County Air Pollution Control District (YCAPCD).

DATES: Any comments on this proposal must arrive by January 7, 2016.

ADDRESSES: Submit comments, identified by docket number [EPA-R09-OAR-2015-0619, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make. For additional submission methods, the full EPA public comment policy, and general guidance on making effective comments, please visit http://www.epa.gov/dockets/comments.html.

Docket: Generally, documents in the docket for this action are available electronically at www.regulations.gov or in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Arnold Lazarus, EPA Region IX, (415) 972-3024, lazarus.arnold@epa.gov.

SUPPLEMENTARY INFORMATION: Throughout this document, “we,” “us” and “our” refer to the EPA. This proposal addresses the following local rules: AVAQMD Rule 1113 “Architectural Coatings,” FRAQMD Rule 3.15 “Architectural Coatings,” SBCAPCD Rule 323.1 “Architectural Coatings,” SCAPCD Rule 3.15 “Architectural Coatings,” and YCAPCD Rule 3.15 “Architectural Coatings.” In the Rules and Regulations section of this Federal Register, we are approving and deleting these local rules in a direct final action without prior proposal because we believe these SIP revisions are not controversial. If we receive adverse comments, however, we will publish a timely withdrawal of the direct final rule and address the comments in subsequent action based on this proposed rule. Please note that if we receive adverse comment on a provision of a particular rule, we may adopt as final those provisions of the rules that are not the subject of an adverse comment.

We do not plan to open a second comment period, so anyone interested in commenting should do so at this time. If we do not receive adverse comments, no further activity is planned. For further information, please see the direct final action.

Dated: October 23, 2015.
Jared Blumenfeld,
Regional Administrator, Region IX.

[FR Doc. 2015-30808 Filed 12-7-15; 8:45 am]

BILLING CODE 6560-50-P